DEPARTMENT OF STATE

[Public Notice 7806]

In the Matter of the Review of the Designation of the Islamic Jihad Union; AKA Islamic Jihad Group; AKA Jama'at al-Jihad; AKA The Libyan Society; AKA The Kazakh Jama'at; AKA The Jamaat Mojahedin; AKA Jamiyat; AKA Jamiat al-Jihad al-Islami; AKA Dzhamaat Modzhakhedov; AKA Islamic Jihad Group of Uzbekistan; AKA al-Djihad al-Islami; AKA Islomiy Jihod Ittihodi; AKA Ittihad al-Jihad al-Islami as a Foreign Terrorist Organization Pursuant to Section 219 of the Immigration and Nationality Act, as Amended

Based upon a review of the Administrative Record assembled in these matters pursuant to Section 219(a)(4)(C) of the Immigration and Nationality Act, as amended (8 U.S.C. 1189[a][4][C]) (“INA”), and in consultation with the Attorney General and the Secretary of the Treasury, I conclude that the circumstances that were the basis for the 2005 designation of the aforementioned organization as a foreign terrorist organization have not changed in such a manner as to warrant revocation of the designation and that the national security of the United States does not warrant a revocation of the designation.

Therefore, I hereby determine that the designation of the aforementioned organization as a foreign terrorist organization, pursuant to Section 219 of the INA (8 U.S.C. 1189), shall be maintained.

This determination shall be published in the Federal Register.

Dated: February 16, 2012.
Hillary Rodham Clinton,
Secretary of State.

[FR Doc. 2012-4334 Filed 2-23-12; 8:45 am]

BILLING CODE 4710-10-P